DEPARTMENT OF EDUCATION

Submission for OMB Review; Comment Request

AGENCY: Department of Education.

SUMMARY: The Director, Information Collection Clearance Division, Regulatory Information Management Services, Office of Management invites comments on the submission for OMB review as required by the Paperwork Reduction Act of 1995 (Pub. L. 104-13).

DATES: Interested persons are invited to submit comments on or before August 6, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology.

Dated: July 1, 2010.
Darrin A. King,
Director, Information Collection Clearance Division, Regulatory Information Management Services, Office of Management.

Institute of Educational Sciences

Type of Review: New.

Title of Collection: Common Core of Data—Teacher Compensation Survey (TCS): 2010-2013.

OMB #: PENDING.

Agency Form Number(s): N/A.

Frequency of Responses: Annually.

Affected Public: State, Local, or Tribal Government, Secondary Educational Agencies (SEAs) or Local Educational Agencies (LEAs).

Estimated Number of Annual Responses: 31.

Estimated Annual Burden Hours: 2,666.

Abstract: National data on teachers are limited to periodic sample surveys or to simple counts at the district or school level. In response to the need for individual teacher-level data, the National Center for Education Statistics (NCES) developed the Teacher Compensation Survey (TCS), an administrative records survey that collects total compensation, teacher status, and demographic data about individual teachers from multiple state education agencies (SEAs). In 2007, NCES launched the pilot TCS data collection, with seven states volunteering to provide administrative records for school year (SY) 2005-06. In the second year of the data collection, the TCS expanded to 17 states reporting SY 2006-07 data. The information collected from these records included base salary, total salary, benefits, highest level of education, years of teaching experience, gender, and race/ethnicity for each teacher. The TCS file can be merged with the Common Core of Data (CCD) Public Elementary/Secondary School Universe Survey file to obtain such school information as school type, operational status, locale code, number of students eligible for free and reduced-price lunch, student enrollment by grade, race/ethnicity, gender, and pupil/teacher ratio. NCES will continue to request data from more SEAs and to make the data more comparable across them. It is anticipated that an average of 31 SEAs per year will volunteer to participate in the TCS between 2010 and 2013 (up to thirty-five states in 2013).

Requests for copies of the information collection submission for OMB review may be accessed from the RegInfo.gov Web site at http://www.reginfo.gov/public/do/PRAMain or from the Department's Web site at http://edicsweb.ed.gov, by selecting the “Browse Pending Collections” link and by clicking on link number 4288. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title and OMB Control Number of the information collection when making your request.

Individuals who use a telecommunications device for the deaf (TDD) may call the Federal Information Relay Service (FIRS) at 1-800-877-8339.

[FR Doc. 2010-16474 Filed 7-6-10; 8:45 am]

BILLING CODE 4000-01-P